DEPARTMENT OF VETERANS AFFAIRS

[OMB Control No. 2900-0018]

Proposed Information Collection (Application for Accreditation as Service Organization Representative) Activity: Comment Request

AGENCY: Office of General Counsel, Department of Veterans Affairs.

ACTION: Notice.

SUMMARY: The Office of General Counsel (OGC), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to determine accredited service organization representatives' qualifications to represent claimants before VA.

DATES: Written comments and recommendations on the proposed collection of information should be received on or before July 20, 2015.

ADDRESSES: Submit written comments on the collection of information through www.Regulations.gov or to Dana Raffaelli, Office of the General Counsel (022O), Department of Veterans Affairs, 810 Vermont Avenue NW., Washington, DC 20420 or email to dana.raffaelli2@va.gov. Please refer to “OMB Control No. 2900-0018” in any correspondence. During the comment period, comments may be viewed online through the Federal Docket Management System (FDMS) at www.Regulations.gov.

FOR FURTHER INFORMATION CONTACT: Dana Raffaelli at (202) 461-7699 or FAX (202) 273-6404.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, OGC invites comments on: (1) Whether the proposed collection of information is necessary for the proper performance of OGC's functions, including whether the information will have practical utility; (2) the accuracy of OGC's estimate of the burden of the proposed collection of information; (3) ways to enhance the quality, utility, and clarity of the information to be collected; and (4) ways to minimize the burden of the collection of information on respondents, including through the use of automated collection techniques or the use of other forms of information technology.

Title: Application for Accreditation as Service Organization Representative, VA Form 21; Accreditation Cancellation Information.

OMB Control Number: 2900-0018.

Type of Review: Revision of a currently approved collection and modification to the collection.

Abstract: Service organizations are required to file an application with VA to establish eligibility for accreditation for representatives of that organization to represent benefit claimants before VA. VA Form 21 is completed by service organizations to establish accreditation for representatives, recertify the qualifications of accredited representatives.

Organizations requesting cancellation of a representative's accreditation based on misconduct or incompetence or resignation to avoid cancellation of accreditation based upon misconduct or incompetence, are required to inform VA of the specific reason for the cancellation request. VA will use the information collected to determine whether service organizations representatives continue to meet regulatory eligibility requirements to ensure claimants have qualified representatives to assist in the preparation, presentation and prosecution of their claims for benefits. VA is modifying the collection to include an optional request to permit the organization to provide an email address and phone number in which the representative may be reached. VA believes that the additional contact information pertaining to the organization will be helpful in that it provides an additional means of communication between VA and the organization as well as provides an additional way that Veterans and their family may contact the representative. The organization may choose to provide a general phone number and email address for the organization, e.g., tampa@vso.com, or the representative's individual email address through the organization and direct phone number, e.g., johnsmith@vso.com.VA does not anticipate the modification request will result in an additional burden. VA believes that the organizations already have the information available to them, and adding that information to the form should not take additional time. This is supported by the fact that many organizations are already providing the additional contact information. Finally, this request will be optional.

Affected Public: Not-for profit institutions.

Estimated Annual Burden: 782 hours.

Estimated Average Burden Per Respondent: 15 minutes for new applicants, 10 minutes for recertification, and 30 minutes for accreditation cancellation information responses.

Frequency of Response: On occasion.

Estimated Number of Respondents: 3,157 (2962 new applicants, 170 recertification, and 25 accreditation cancellation information responses).

By direction of the Secretary.
Crystal Rennie,
Department Clearance Officer, Department of Veterans Affairs.

[FR Doc. 2015-12212 Filed 5-19-15; 8:45 am]

BILLING CODE 8320-01-P